NATIONAL ARCHIVES AND RECORDS ADMINISTRATION

36 CFR Part 1228

RIN 3095-AB41

Records Management; Unscheduled Records

AGENCY: National Archives and Records Administration (NARA).

ACTION: Final rule.

SUMMARY: NARA is revising our regulations to allow unscheduled records to be transferred to records storage facilities. These changes will allow agencies to transfer unscheduled records in a timely manner.

DATES: This rule is effective January 14, 2005.

FOR FURTHER INFORMATION CONTACT: Cheryl Stadel-Bevans at telephone number (301) 837-3021 or fax number (301) 837-0319.

SUPPLEMENTARY INFORMATION: NARA published a proposed rule on September 17, 2004, at 69 FR 56015, for a 60-day public comment period. We received two comments, both from Federal agencies. One comment expressed no concerns about the proposed rule. The second comment supported the changes outlined in the proposed rule. Therefore, we are making no changes in this final rule.

This final rule is not a significant regulatory action for the purposes of Executive Order 12866 and has been reviewed by the Office of Management and Budget (OMB). As required by the Regulatory Flexibility Act, it is hereby certified that this final rule will not have a significant impact on a substantial number of small entities because this rule applies to Federal agencies. This final rule does not have any federalism implications.

List of Subjects in 36 CFR Part 1228

Archives and records.

For the reasons set forth in the preamble, NARA amends chapter XII of title 36 of the Code of Federal Regulations as follows:

PART 1228—DISPOSITION OF FEDERAL RECORDS

1. The authority for Part 1228 continues to read as follows:

Authority: 44 U.S.C. chs. 21, 29, and 33.

2. Amend § 1228.152 by revising the entry in the table for item (2)(ii) to read as follows:

§ 1228.152 Under what conditions may Federal records be stored in records storage facilities?

* * * * *

Type of record | Conditions
* * * * *
(2) * * * | (i) * * * (ii) Also requires prior notification to NARA (see § 1228.154(b)).

* * * * *

3. Amend § 1228.154 by revising paragraphs (b) and (c)(1)(vii) to read as follows:

§ 1228.154 What requirements must an agency meet when it transfers records to a records storage facility?

* * * * *

(b) To transfer unscheduled records, notify NARA (NWML) in writing prior to the transfer. The notification must identify the records storage facility and include a copy of the information required by paragraph (c) of this section.

* * * * *

(c) * * *

(1) * * *

(vii) Citation to NARA-approved schedule or agency records disposition manual (unscheduled records must cite the date the agency notified NARA or, if available, the date the SF 115 was submitted to NARA);

* * * * *

Dated: December 9, 2004.
John W. Carlin,
Archivist of the United States.

[FR Doc. 04-27420 Filed 12-14-04; 8:45 am]

BILLING CODE 7515-01-P